DEPARTMENT OF ENERGY

Federal Energy Regulatory Commission

[Docket No. EL08-32-000]

Central Minnesota Municipal Power Agency, Midwest Municipal Transmission Group; Notice of Filing

January 13, 2011.

Take notice that, on January 11, 2011, Central Minnesota Municipal Power Agency and Midwest Municipal Transmission Group submitted an amendment to a petition for a declaratory order filed on December 31, 2007, as amended on January 25, 2010, in the above-referenced proceeding.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov or call (866) 208-3676 (toll free). For TTY, call (202) 502-8659.

Comment Date: January 27, 2011.

Kimberly D. Bose,
Secretary.

[FR Doc. 2011-1284 Filed 1-21-11; 8:45 am]

BILLING CODE 6717-01-P